ENVIRONMENTAL PROTECTION AGENCY

[EPA-HQ-OPP-2015-0057; FRL-9925-84]

Registration Review; Pesticide Dockets Opened for Review and Comment; Correction

AGENCY: Environmental Protection Agency (EPA).

ACTION: Notice; correction.

SUMMARY: EPA issued a notice in the Federal Register of March 30, 2015 (80 FR 16675), concerning the opening for public comment period for several registration reviews. This document corrects the listing of registration review docket openings to include forchlorfenuron (case 7057), docket identification (ID) number to be EPA-HQ-OPP-2014-0641, and chemical review manager contact information. It also clarifies that there is no combined work plan, summary document, and proposed interim registration review decision for forchlorfenuron.

FOR FURTHER INFORMATION CONTACT: Janeese Hackley, Pesticide Re-Evaluation Division (7508P), Office of Pesticide Programs, Environmental Protection Agency, 1200 Pennsylvania Ave. NW., Washington, DC 20460-0001; telephone number: (703) 605-1523; email address: hackley.janeese@epa.gov.

SUPPLEMENTARY INFORMATION:

I. General Information

A. Does this action apply to me?

The Agency included in the Federal Register notice of March 30, 2015 (80 FR 16675) (FRL-9922-79) a list of those who may be potentially affected by this action.

B. How can I get copies of this document and other related information?

The docket for this action, identified by docket ID number EPA-HQ-OPP-2015-0057, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

FR Doc. 2015-07200 published in the Federal Register of March 30, 2015 (80 FR 16675) (FRL-9922-79) is corrected as follows:

1. On page 16676, in Table 1, under the heading III. Registration Reviews; A. What action is the Agency taking?, Table 1—Registration Review Dockets Opening, column named “Registration review case name and No.” is corrected to include in a new line to read: Forchlorfenuron (Case 7057).

2. On page 16676, in Table 1, under the heading III. Registration Reviews; A. What action is the Agency taking?, Table 1—Registration Review Dockets Opening, column named “Pesticide docket ID No.”, is corrected to include in the new line for forchlorfenuron to read: EPA-HQ-OPP-2014-0641.

3. On page 16676, in Table 1, under the heading III. Registration Reviews; A. What action is the Agency taking?, Table 1—Registration Review Dockets Opening, column named “Chemical review manager, telephone number, email address” is corrected to include in a new line for forchlorfenuron to read: Wilhelmena Livingston, (703) 308-8025, livingston.wilhelmena@epa.gov.

4. On page 16676, in the first column, Table 1, under the heading III. Registration Reviews; A. What action is the Agency taking?, paragraph 2, line 5, to delete the sentence “For Forchlorfenuron (Case 7057), EPA is seeking comment on the Combined Work Plan, Summary Document, and Proposed Interim Registration Review Decision, which includes the human health and ecological risk assessments.”

Authority: 7 U.S.C. 136 et seq.

Dated: April 10, 2015.
Richard P. Keigwin, Jr.,
Director, Pesticide Re-Evaluation Division, Office of Pesticide Programs.

[FR Doc. 2015-09525 Filed 4-23-15; 8:45 am]

BILLING CODE 6560-50-P